ENVIRONMENTAL PROTECTION AGENCY

[FRL-9521-9]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1871.06; NESHAP for Source Categories: Generic Maximum Achievable Control Technology Standards; 40 CFR part 63 subparts A and YY; was approved on 07/10/2012; OMB Number 2060-0420; expires on 07/31/2015; Approved without change.

EPA ICR Number 0111.13; NESHAP for Asbestos; 40 CFR part 61 subparts A and M; was approved on 07/10/2012; OMB Number 2060-0101; expires on 07/31/2015; Approved without change.

EPA ICR Number 1773.10; NESHAP for Hazardous Waste Combustors (Renewal); 40 CFR part 63 subpart EEE; was approved on 07/10/2012; OMB Number 2050-0171; expires on 07/31/2015; Approved without change.

EPA ICR Number 1601.08; Air Pollution Regulations for Outer Continental Shelf Activities (Renewal); 40 CFR part 55 and 40 CFR 55.1-55.15; was approved on 07/10/2012; OMB Number 2060-0249; expires on 07/31/2015; Approved without change.

EPA ICR Number 2056.04; NESHAP for Miscellaneous Metal Parts and Products; 40 CFR part 63 subparts A and MMMM; was approved on 07/10/2012; OMB Number 2060-0486; expires on 07/31/2015; Approved without change.

EPA ICR Number 1084.12; NSPS for Nonmetallic Mineral Processing; 40 CFR part 60 subparts A and OOO; was approved on 07/10/2012; OMB Number 2060-0050; expires on 07/31/2015; Approved without change.

EPA ICR Number 2310.02; RCRA Definition of Solid Waste (Renewal); 40 CFR parts 260 and 261; was approved on 07/05/2012; OMB Number 2050-0202; expires on 07/31/2015; Approved without change.

EPA ICR Number 2173.05; EPA's Green Power Partnership and Combined Heat and Power Partnership (Renewal); was approved on 07/05/2012; OMB Number 2060-0578; expires on 07/31/2015; Approved without change.

EPA ICR Number 2427.02; Aircraft Engines—Supplemental Information Related to Exhaust Emissions (Final Rule); 40 CFR 87.42 and 87.46; was approved on 07/12/2012; OMB Number 2060-0680; expires on 07/31/2015; Approved without change.

EPA ICR Number 2432.02; NESHAP for Polyvinyl Chloride and Copolymer Production; 40 CFR part 63 subparts A and HHHHHHH; was approved on 07/17/2012; OMB Number 2060-0666; expires on 07/31/2015; Approved without change.

Comment Filed

EPA ICR Number 2412.01; Electronic Reporting of TSCA Section 4, Section 5 NOC and Supporting Documents, 8(a) Preliminary Assessment Information Rule (PAIR), and 8(d) Submissions; in 40 CFR parts 712, 716, 720 and 790; 40 CFR 725.190; OMB filed comment on 07/23/2012.

Withdrawn and Continue

EPA ICR Number 1463.08; National Oil and Hazardous Substances Pollution Contingency Plan (NCP)(Renewal); Withdrawn from OMB on 07/19/2012 while existing approved collection continues.

John Moses,
Director, Collections Strategies Division.

[FR Doc. 2012-19120 Filed 8-3-12; 8:45 am]

BILLING CODE 6560-50-P